DEPARTMENT OF JUSTICE

Drug Enforcement Administration

Importer of Controlled Substances; Notice of Registration

By Notice dated September 5, 2000, published in the Federal Register on September 25, 2000, (65 FR 57622), Noramco Inc., 1440 Olympic Drive, Athens, Georgia 30601, made application to the Drug Enforcement Administration (DEA) to be registered as an importer of phenylacetone (8501) and fentanyl (9801), basic classes of controlled substances listed in Schedule II.

The firm planned to import phenylacetone for the production of amphetamine and fentanyl for seed material for the manufacture of fentanyl base.

One registered bulk manufacturer of fentanyl requested a hearing to deny the proposed registration of Noramco Inc., to import fentanyl. Noramco Inc. requested by letter that its application to import fentanyl be withdrawn. Therefore, Noramco Inc.'s application to import fentanyl is hereby withdrawn.

No comments or objections have been received related to the importation of phenylacetone. DEA has considered the factors in title 21, United States Code, Section 823(a) and determined that the registration of Noramco Inc., is consistent with the public interest and with United States obligations under international treaties, conventions, or protocols in effect on May 1, 1971, at this time. DEA has investigated Noramco Inc., to ensure that the company's registration is consistent with the public interest. The investigations included inspection and testing of the company's physical security systems, verification of the company's compliance with state and local laws, and a review of the company's background and history. Therefore, pursuant to Section 1008(a) of the Controlled Substances Import and Export Act and in accordance with Title 21, Code of Federal Regulations, Section 1301.34, the above firm is granted registration as an importer of the basic class of controlled substance phenylacetone (8501) but their application to import fentanyl (9801) is hereby withdrawn.

Dated: December 4, 2000.
John H. King,
Deputy Assistant Administrator, Office of Diversion Control, Drug Enforcement Administration.

[FR Doc. 01-754 Filed 1-9-01; 8:45 am]

BILLING CODE 4410-09-M